DEPARTMENT OF ENERGY

10 CFR Part 430

[Docket No. EERE-2009-BT-TP-0016]

RIN 1904-AB99

Energy Conservation Program: Test Procedures for Fluorescent Lamp Ballasts

AGENCY: Office of Energy Efficiency and Renewable Energy, Department of Energy.

ACTION: Final rule.

SUMMARY: On October 21, 2014, the U.S. Department of Energy (DOE) issued a notice of proposed rulemaking (NOPR) to amend the test procedures for fluorescent lamp ballasts. That NOPR serves as the basis for this action. This final rule amends DOE's regulations concerning the test procedures for the measurement of energy consumption for fluorescent lamp ballasts. Specifically, these amendments clarify the requirement to use the test procedures in Appendix Q1 to demonstrate compliance with the energy conservation standards that apply to fluorescent lamp ballasts manufactured on or after November 14, 2014. These revisions follow the intent of the fluorescent lamp ballast test procedure final rule to support any new or revised energy conservation standards at the time those standards require compliance. This final rule also corrects the formula for power factor, which contained a mathematical error as adopted in that final rule.

DATES: The effective date of this rule is March 6, 2015. Compliance will be mandatory starting August 3, 2015.

ADDRESSES: The docket, which includes Federal Register notices, public meeting attendee lists and transcripts, comments, and other supporting documents/materials, is available for review at regulations.gov. All documents in the docket are listed in the regulations.gov index. However, some documents listed in the index, such as those containing information that is exempt from public disclosure, may not be publicly available.

A link to the docket Web page can be found at: http://www1.eere.energy.gov/buildings/appliance_standards/product.aspx/productid/62. This Web page will contain a link to the docket for this notice on the regulations.gov site. The regulations.gov Web page will contain simple instructions on how to access all documents, including public comments, in the docket.

For further information on how to review the docket, contact Ms. Brenda Edwards at (202) 586-2945 or by email: Brenda.Edwards@ee.doe.gov.

FOR FURTHER INFORMATION CONTACT: Ms. Lucy deButts, U.S. Department of Energy, Office of Energy Efficiency and Renewable Energy, Building Technologies Program, EE-5B, 1000 Independence Avenue SW., Washington, DC 20585-0121. Telephone: (202) 287-1604. Email: fluorescent_lamp_ballasts@ee.doe.gov.

Ms. Sarah Butler, U.S. Department of Energy, Office of the General Counsel, GC-33, 1000 Independence Avenue SW., Washington, DC 20585-0121. Telephone: (202) 586-1777. Email: Sarah.Butler@hq.doe.gov.

SUPPLEMENTARY INFORMATION:

Table of Contents

I. Authority and Background

II. Synopsis of the Final Rule

III. Discussion

IV. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Review Under Section 32 of the Federal Energy Administration Act of 1974

M. Congressional Notification

N. Approval of the Office of the Secretary

I. Authority and Background

Title III, Part B ¹ of the Energy Policy and Conservation Act of 1975 (“EPCA” or, “the Act”), Public Law 94-163 (42 U.S.C. 6291-6309, as codified) sets forth a variety of provisions designed to improve energy efficiency and established the “Energy Conservation Program for Consumer Products Other Than Automobiles.” ² These include fluorescent lamp ballasts, the subject of this notice. (42 U.S.C. 6292(a)(13))

¹ For editorial reasons, upon codification in the U.S. Code, Part B was redesignated as Part A.

² All references to EPCA refer to the statute as amended through the American Energy Manufacturing Technical Corrections Act (AEMTCA), Public Law 112-210 (Dec. 18, 2012).

Under EPCA, the energy conservation program consists essentially of four parts: (1) Testing, (2) labeling, (3) Federal energy conservation standards, and (4) certification and enforcement procedures. The testing requirements consist of test procedures that manufacturers of covered products must use as the basis for (1) certifying to the Department of Energy (DOE) that their products comply with the applicable energy conservation standards adopted under EPCA, and (2) making representations about the efficiency of those products. Similarly, DOE must use these test procedures to determine whether the products comply with any relevant standards promulgated under EPCA.

DOE published a test procedure final rule on May 4, 2011 (hereafter the “May 2011 test procedure final rule”) establishing revised active mode test procedures for fluorescent lamp ballasts. 76 FR 25211. The May 2011 test procedure final rule established appendix Q1 to subpart B of Title 10 of the Code of Federal Regulations (CFR) part 430. DOE also published a final rule adopting new and revised energy conservation standards for fluorescent lamp ballasts on November 14, 2011 (hereafter the “November 2011 standards final rule”), which completed the second energy conservation standard rulemaking required under 42 U.S.C. 6295(g)(7). 76 FR 70548. The November 2011 standards final rule established the regulations located at 10 CFR 430.32(m)(8)-(10).

II. Synopsis of the Final Rule

This final rule amends the current DOE test procedures for fluorescent lamp ballasts. DOE discovered an error in the formula for power factor located in 10 CFR part 430, subpart B, appendix Q1. DOE is correcting that formula. DOE is also updating 10 CFR 430.23 to reflect the requirement to determine compliance with the November 2014 standards by testing in accordance with Appendix Q1. This revision follows the intent of the May 2011 test procedure final rule to support any new or revised energy conservation standards at the time those standards require compliance. 76 FR 25211, 25213 (May 4, 2011).

III. Discussion

In the November 2011 standards final rule, DOE amended existing energy conservation standards and adopted standards for additional ballasts. 76 FR 70548. The new and amended standards were based on ballast luminous efficiency (BLE) and apply to all products listed in the table of BLE standards, codified at 10 CFR 430.32(m)(8)(iii)(C). DOE required compliance with these BLE standards on November 14, 2014.

In the notice of proposed rulemaking (NOPR) published on October 21, 2014, DOE proposed two changes to the fluorescent lamp ballast test procedure. 79 FR 62894. First, DOE proposed to revise 10 CFR 430.23 to clarify the requirement to use the test procedures in Appendix Q1 to demonstrate compliance with the new and revised energy conservation standards that apply to fluorescent lamp ballasts manufactured on or after November 14, 2014, codified at 10 CFR 430.32(m)(8)-(10). DOE noted that these revisions follow the intent of the May 2011 test procedure final rule that new Appendix Q1 is to support the new and revised energy conservation standards adopted in the November 2011 standards final rule. DOE did not include these revisions at the time of the May 2011 test procedure final rule because the standards and associated compliance date of the subsequent standards final rule were not yet known. Second, DOE also proposed to revise Appendix Q1 to correct an error in the formula for calculating power factor as adopted in the May 2011 test procedure final rule.

The National Electrical Manufacturers Association (NEMA) commented that it supports the proposed changes to 10 CFR part 430 noting that the revisions improve and clarify the existing procedures. (NEMA, No. 25 at p. 1) ³ Based on the reasons provided in the NOPR and in light of no negative comments, DOE is adopting the revisions to 10 CFR 430.23 clarifying the requirements to use the test procedures in Appendix Q1 on or after November 14, 2014 and to Appendix Q1 correcting the power factor formula.

³ A notation in the form “NEMA, No. 25 at p. 1” identifies a written comment that DOE has received and has included in the docket of this rulemaking. This particular notation refers to a comment: (1) Submitted by NEMA; (2) in document number 25 of the docket, and (3) on page 1 of that document.

In any rulemaking to amend test procedures, DOE must determine to what extent, if any, the proposed test procedures would alter the measured energy efficiency of any covered products as determined under the existing test procedures. (42 U.S.C. 6293(e)(1)) Because the changes adopted in this final rule simply provide clarification, these revisions do not alter the measured energy efficiency of the covered products measured by this test procedure.

IV. Procedural Issues and Regulatory Review

A. Review Under Executive Order 12866

The Office of Management and Budget (OMB) has determined that test procedure rulemakings do not constitute “significant regulatory actions” under section 3(f) of Executive Order 12866, Regulatory Planning and Review, 58 FR 51735 (Oct. 4, 1993). Accordingly, this action was not subject to review under the Executive Order by the Office of Information and Regulatory Affairs (OIRA) in the Office of Management and Budget.

B. Review Under the Regulatory Flexibility Act

The Regulatory Flexibility Act (5 U.S.C. 601 et seq.) requires preparation of an initial regulatory flexibility analysis (IFRA) for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's Web site: http://energy.gov/gc/office-general-counsel.

This rulemaking clarifies existing requirements for testing and compliance with energy conservation standards and does not change the burden associated with fluorescent lamp ballast regulations on any entity large or small. Therefore, DOE has determined that this rulemaking does not have a significant economic impact on a substantial number of small entities.

Accordingly, DOE has not prepared a regulatory flexibility analysis for this rulemaking. DOE's certification and supporting statement of factual basis will be provided to the Chief Counsel for Advocacy of the Small Business Administration (SBA) for review under 5 U.S.C. 605(b). DOE certifies that this rule has no significant impact on a substantial number of small entities.

C. Review Under the Paperwork Reduction Act of 1995

Manufacturers of fluorescent lamp ballasts must certify to DOE that their products comply with any applicable energy conservation standards. In certifying compliance, manufacturers must test their products according to the DOE test procedures for fluorescent lamp ballasts, including any amendments adopted for those test procedures. DOE has established regulations for the certification and recordkeeping requirements for all covered consumer products and commercial equipment, including fluorescent lamp ballasts. (76 FR 12422 (March 7, 2011). The collection-of-information requirement for the certification and recordkeeping is subject to review and approval by OMB under the Paperwork Reduction Act (PRA). This requirement has been approved by OMB under OMB control number 1910-1400. Public reporting burden for the certification is estimated to average 30 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

In this final rule, DOE amends its test procedure for fluorescent lamp ballasts. DOE has determined that this rule falls into a class of actions that are categorically excluded from review under the National Environmental Policy Act of 1969 (42 U.S.C. 4321 et seq.) and DOE's implementing regulations at 10 CFR part 1021. Specifically, this rule amends an existing rule without affecting the amount, quality or distribution of energy usage, and, therefore, will not result in any environmental impacts. Thus, this rulemaking is covered by Categorical Exclusion A5 under 10 CFR part 1021, subpart D, which applies to any rulemaking that interprets or amends an existing rule without changing the environmental effect of that rule. Accordingly, neither an environmental assessment nor an environmental impact statement is required.

E. Review Under Executive Order 13132

Executive Order 13132, “Federalism,” 64 FR 43255 (August 4, 1999) imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE examined this final rule and determined that it will not have a substantial direct effect on the States, on the relationship between the national government and the States, or on the distribution of power and responsibilities among the various levels of government. EPCA governs and prescribes Federal preemption of State regulations as to energy conservation for the products that are the subject of this final rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) Eliminate drafting errors and ambiguity; (2) write regulations to minimize litigation; (3) provide a clear legal standard for affected conduct rather than a general standard; and (4) promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a regulatory action resulting in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at http://energy.gov/gc/office-general-counsel. DOE examined this final rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This final rule will not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights” 53 FR 8859 (March 18, 1988), that this regulation will not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). DOE has reviewed this final rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any significant energy action. A “significant energy action” is defined as any action by an agency that promulgated or is expected to lead to promulgation of a final rule, and that: (1) Is a significant regulatory action under Executive Order 12866, or any successor order; and (2) is likely to have a significant adverse effect on the supply, distribution, or use of energy; or (3) is designated by the Administrator of OIRA as a significant energy action. For any significant energy action, the agency must give a detailed statement of any adverse effects on energy supply, distribution, or use if the regulation is implemented, and of reasonable alternatives to the action and their expected benefits on energy supply, distribution, and use.

This regulatory action is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977. (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

This final rule does not revise the existing incorporation of industry standards regarding fluorescent lamp ballasts. Therefore, DOE concludes that the requirements of section 32(b) of the FEAA, (i.e., that the standards were developed in a manner that fully provides for public participation, comment, and review) do not apply to this rulemaking.

M. Congressional Notification

As required by 5 U.S.C. 801, DOE will report to Congress on the promulgation of this rule before its effective date. The report will state that it has been determined that the rule is not a “major rule” as defined by 5 U.S.C. 804(2).

N. Approval of the Office of the Secretary

The Secretary of Energy has approved publication of this final rule.

List of Subjects in 10 CFR Part 430

Administrative practice and procedure, Confidential business information, Energy conservation, Household appliances, Imports, Intergovernmental relations, Small businesses.

Issued in Washington, DC, on January 28, 2015.
Kathleen B. Hogan,
Deputy Assistant Secretary for Energy Efficiency, Energy Efficiency and Renewable Energy.

For the reasons stated in the preamble, DOE amends part 430 of Chapter II of Title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.23 is amended by revising paragraph (q) to read as follows:

§ 430.23 Test procedures for the measurement of energy and water consumption.

* * * * *

(q) Fluorescent Lamp Ballasts. (1) Calculate the estimated annual energy consumption (EAEC) for fluorescent lamp ballasts, expressed in kilowatt-hours per year, by multiplying together the following values:

(i) The input power in kilowatts measured in accordance with section 2.5.1.6 of appendix Q1 to this part; and

(ii) The representative average use cycle of 1,000 hours per year. Round the resulting product to the nearest kilowatt-hour per year.

(2) Calculate ballast luminous efficiency (BLE) using section 2.6.1 of appendix Q1 to this subpart.

(3) Calculate the estimated annual operating cost (EAOC) for fluorescent lamp ballasts, expressed in dollars per year, by multiplying together the following values:

(i) The representative average unit energy cost of electricity in dollars per kilowatt-hour as provided by the Secretary,

(ii) The representative average use cycle of 1,000 hours per year, and

(iii) The input power in kilowatts measured in accordance with section 2.5.1.6 of appendix Q1 to this part. Round the resulting product to the nearest dollar per year.

* * * * *

3. Appendix Q1 to subpart B of part 430 is amended by revising section 2.6.2 to read as follows:

Appendix Q1 to Subpart B of Part 430—Uniform Test Method for Measuring the Energy Consumption of Fluorescent Lamp Ballasts

* * * * *

2.6.2. Calculate Power Factor (PF).

Where:

Input power is determined in accordance with section 2.5.1.6 of this appendix, input voltage is determined in accordance with section 2.5.1.7 of this appendix, and input current is determined in accordance with section 2.5.1.8 of this appendix.

* * * * *

[FR Doc. 2015-02150 Filed 2-3-15; 8:45 am]

BILLING CODE 6450-01-P